DEPARTMENT OF DEFENSE

Department of the Army

Notice of Intent To Prepare an Environmental Impact Statement (EIS) for the Incorporation of the Overhills Property Into the Northern Training Area (NTA) of Fort Bragg, North Carolina

AGENCY: Department of the Army, DoD.

ACTION: Notice of Intent.

SUMMARY: The EIS will evaluate the Army's proposal to incorporate the Overhills property into Fort Bragg's NTA, and create a contiguous 22,000-acre area for training. Implementation of the proposed action would govern both military training and recreational land uses under a multiple land use concept.

ADDRESSES: Written comments concerning the scope of the EIS should be sent to the Commander, U.S. Army Engineer District, Savannah, ATTN: CESAS-PD-E (Mr. Seyle), P.O. Box 889, 100 West Oglethorpe Avenue, Savannah, GA 31402-0889.

FOR FURTHER INFORMATION CONTACT: Mr. Seyle at (912) 652-6017.

SUPPLEMENTARY INFORMATION: The Army would conduct the same full-scale training on Overhills that it is now conducting on the NTA. This training includes ground and air maneuvers involving both mechanized and light infantry with attached combat support and combat service support. These units would operate tracked and wheeled vehicles, as well as rotary and fixed-wing aircraft. Soldiers would train with live, frangible ammunition (with a maximum range of 200 meters) in and around existing non-historic structures. All units would train according to the Installation Range Regulation and the Army's Red-Cockaded Woodpecker guidelines. Additionally, the Army would allow hunting and fishing on selected areas of the property and use the family estate area, known as “The Hill,” for youth oriented recreational activities such as golfing, horseback riding, hiking, swimming, and boating to the extent that these activities do not conflict with training.

Fort Bragg is the Headquarters of the XVIII Airborne Corps, the command element for America's contingency corps, and the U.S. Army Special Operations Command. The military units stationed at Fort Bragg and Pope Air Force Base (AFB) comprise approximately 44,000 soldiers and airmen. Major elements based at Fort Bragg include XVIII Airborne Corps, 82d Airborne Division, and Special Operations Forces. In addition to these units, Fort Bragg supports the training of soldiers from the Reserve Components of the U.S. Army. The 1995 Land Use Requirements Study identified a shortage of 125,512 acres needed to support training. The Army purchased the approximately 11,000-acre Overhills property in 1997 to help alleviate that training land deficit and protect the military missions of Fort Bragg and Pope AFB from encroachment by incompatible civilian development. The Army is in the process of acquiring the remaining private properties within Overhills, which are eight small parcels totaling 148.7 acres. Overhills is located in Cumberland and Harnett Counties in southeastern North Carolina and adjoins the northern boundaries of Fort Bragg and Pope AFB.

The EIS will consider several alternatives: (1) Incorporate Overhills into the NTA and use it only for military training. The Army would fence off and maintain at their current conditions the historical structures on “The Hill” and train on the golf course; (2) train on Overhills; Army would manage Overhills' facilities and resources solely as a caretaker; (3) no action alternative, which is to continue the status quo of permitting only low-impact military training at company level and not incorporating Overhills into the NTA while continuing caretaker operations for the rest of the property and facilities. Currently, units are conducting only light infantry training and driving only wheeled vehicles on roads and established trails.

During the scoping process, the Army will use any comments it receives as a result of this notice to identify potential impacts to the quality of the human environment. Individuals or organizations may participate in the scoping process by written comment or by attending a public scoping meeting. The date, time, and location of the public scoping meeting will be announced in the “Fayetteville Observer Times,” “Charlotte Observer,” “Raleigh News-Observer,” and the “Paraglide” newspapers. The EIS will only consider comments received no later than 15 days following the public meeting.

Dated: November 28, 2000.
Raymond J. Fatz,
Deputy Assistant Secretary of the Army (Environment, Safety and Occupational Health), OASA(I&E).

[FR Doc. 00-30702 Filed 12-1-00; 8:45 am]

BILLING CODE 3710-08-M